DEPARTMENT OF LABOR

Employment and Training Administration

[TA-W-61,197]

Ferguson Enterprises; Portland, OR; Notice of Termination of Investigation

Pursuant to Section 221 of the Trade Act of 1974, as amended, an investigation was initiated on March 27, 2007 in response to a worker petition filed by a state agency on behalf of workers at Ferguson Enterprises, Portland, Oregon.

The petitioner has requested that the petition be withdrawn. Consequently, the investigation has been terminated.

Signed at Washington, DC this 3rd day of April, 2007.
Elliott S. Kushner,
Certifying Officer, Division of Trade Adjustment Assistance.

[FR Doc. E7-6656 Filed 4-9-07; 8:45 am]

BILLING CODE 4510-FN-P